DEPARTMENT OF LABOR

Employment and Training Administration

[TA-W-70,044]

Croscill Acquisition, LLC, Currently Known as Croscill Home, LLC, Plant No. 8, Including On-Site Leased Workers From Ex-Cell Home Fashions, Inc., Oxford, NC; Amended Certification Regarding Eligibility To Apply for Worker Adjustment Assistance

In accordance with Section 223 of the Trade Act of 1974, as amended (“Act”), 19 U.S.C. 2273, the Department of Labor issued a Certification of Eligibility to Apply for Worker Adjustment Assistance on August 25, 2009, applicable to workers of Croscill Acquisition, LLC, formerly doing business as Royal Home Fashions, a subsidiary of Croscill, Inc., Plant No. 8, Oxford, North Carolina. The notice was published in the Federal Register on November 5, 2009 (74 FR 57342). The notice was amended on January 4, 2011 to include currently known as Croscill Home, LLC. The amended notice was published in the Federal Register on January 14, 2011 (76 FR 2713). The workers are engaged in warehousing and distribution services of household products, and are separately identifiable from workers producing samples at the same location.

At the request of the State Agency, the Department reviewed the certification for workers of the subject firm.

New information shows that workers leased from Ex-Cell Home Fashions, Inc. were employed on-site at the Oxford, North Carolina location of Croscill Acquisition, LLC, currently known as Croscill Home, LLC, Plant No. 8. The Department has determined that these workers were sufficiently under the control of Croscill Acquisition, LLC, currently known as Croscill Home, LLC, Plant No. 8 to be considered leased workers.

Accordingly, the Department is amending this certification to include leased workers from Ex-Cell Home Fashions, Inc. working on-site at the Oxford, North Carolina location of the subject firm.

The intent of the Department's certification is to include all workers of the subject firm who were adversely affected by the acquisition of warehousing and distribution services from a foreign country.

The amended notice applicable to TA-W-70,044 is hereby issued as follows:

All workers of Croscill Acquisition, LLC, currently known as Croscill Home, LLC, Plant No. 8, included on-site leased workers from Ex-Cell Home Fashions, Inc., Oxford, North Carolina, engaged in employment related to warehousing and distribution services, who became totally or partially separated from employment on or after May 25, 2009, through August 25, 2011, and all workers in the group threatened with total or partial separation from employment on August 25, 2009 through August 25, 2011, are eligible to apply for adjustment assistance under Chapter 2 of Title II of the Trade Act of 1974, as amended.

Signed in Washington, DC this 29th day of July, 2011.
Michael W. Jaffe,
Certifying Officer, Office of Trade Adjustment Assistance.

[FR Doc. 2011-20524 Filed 8-11-11; 8:45 am]

BILLING CODE 4510-FN-P